DEPARTMENT OF COMMERCE

National Oceanic and Atmospheric Administration

RIN 0648-XJ87

Advisory Committee to the U.S. Section of the International Commission for the Conservation of Atlantic Tunas (ICCAT); First Fall Meeting

AGENCY: National Marine Fisheries Service (NMFS), National Oceanic and Atmospheric Administration (NOAA), Commerce.

ACTION: Notice of public meeting.

SUMMARY: In preparation for the 2008 International Commission for the Conservation of Atlantic Tunas (ICCAT) meeting, the Advisory Committee to the U.S. Section to ICCAT is announcing the convening of the first of two fall meetings.

DATES: The meeting will be held September 15-16, 2008. There will be an open session on Monday, September 15, 2008, beginning from 9 a.m. through 1 p.m. The remainder of the meeting will be closed to the public. There will be no opportunity for oral public comments during the meeting. Written comments on issues being considered at the meeting will be made available to the Advisory Committee, and must be received no later than September 8, 2008 (see ADDRESSES).

ADDRESSES: The meeting will be held at the Crowne Plaza Hotel, 8777 Georgia Avenue, Silver Spring, MD 20910. Written comments should be sent to Terra Lederhouse at NOAA Fisheries, Office of International Affairs, Room 12641, 1315 East-West Highway, Silver Spring, MD 20910. Written comments can also be provided via fax (301-713-2313) or email (Terra.Lederhouse@noaa.gov).

FOR FURTHER INFORMATION CONTACT: Terra Lederhouse, Office of International Affairs, 301-713-9090.

SUPPLEMENTARY INFORMATION: The Advisory Committee to the U.S. Section to ICCAT will meet September 15-16, 2008, first in an open session to consider information on stock status of Atlantic highly migratory species, particularly bluefin tuna, yellowfin tuna, skipjack tuna, and sharks. There will be no opportunity for oral public comment during the open session. Written comments, however, may be submitted before the September open session by mail, fax or email and should be received by September 11, 2008 (see ADDRESSES).

After the open session, the Advisory Committee will meet in closed session to discuss sensitive information relating to upcoming international negotiations regarding the management of Atlantic highly migratory species. The Advisory Committee will also consider fleet capacity management and monitoring, control and surveillance issues.

Special Accommodations

The meeting locations are physically accessible to people with disabilities. Requests for sign language interpretation or other auxiliary aids should be directed to Terra Lederhouse at (301) 713-9090 by at least 5 days prior to the meeting date.

Dated: August 27, 2008.
Christopher Rogers,
Acting Director, Office of International Affairs, National Marine Fisheries Service.

[FR Doc. E8-20278 Filed 8-29-08; 8:45 am]

BILLING CODE 3510-22-S